DEPARTMENT OF TRANSPORTATION

Federal Aviation Administration

Air Traffic Procedures Advisory Committee

AGENCY: Federal Aviation Administration (FAA), DOT.

SUMMARY: The FAA is issuing this notice to advise the public that the FAA's Air Traffic Procedures Advisory Committee (ATPAC) two year charter has been coordinated and signed by the FAA Administrator. The ATPAC charter is valid for two years and provides a venue to review air traffic control procedures and practices for standardization, revision, clarification, and upgrading of terminology and procedures.

DATES: October 29, 2012 valid until October 29, 2014.

FOR FURTHER INFORMATION CONTACT: Mr. Gary Norek, ATPAC Executive Director, 800 Independence Avenue SW., Washington, DC 20591.

Issued in Washington, DC, on October 25, 2012.
Gary A. Norek,
Executive Director, Air Traffic Procedures Advisory Committee.

[FR Doc. 2012-27669 Filed 11-13-12; 8:45 am]

BILLING CODE 4910-13-P